OFFICE OF FAITH-BASED AND NEIGHBORHOOD PARTNERSHIPS

Notice of Establishment

Pursuant to the Federal Advisory Committee Act, as amended (5 U.S.C. App.) and Executive Order 13488 (74 FR 6533, February 9, 2009), the Executive Director of the Office for Faith-based and Neighborhood Partnerships announces the establishment of the President's Advisory Council on Faith-based and Neighborhood Partnerships.

The Council shall bring together leaders and experts in fields related to the work of faith-based and neighborhood organizations in order to: Identify best practices and successful modes of delivering social services; evaluate the need for improvements in the implementation and coordination of public policies relating to faith-based and other neighborhood organizations; and make recommendations for changes in policies, programs, and practices.

The President's Advisory Council on Faith-based and Neighborhood Partnerships will advise the Executive Director of the White House Office of Faith-based and Neighborhood Partnerships. The Council, after conducting its research, reviews, and deliberation, shall submit a written description of its recommendations to the Executive Director of the White House Office of Faith-based and Neighborhood Partnerships.

For information, contact Michael Wear, Executive Assistant, White House Office of Faith-based and Neighborhood Partnerships, 708 Jackson Place, NW., Washington, DC 20006, telephone 202/456-4708.

Dated: April 1, 2009.
Joshua DuBois,
Executive Director, Office of Faith-Based and Neighborhood Partnerships, White House Office of Faith-based and Neighborhood Partnerships.

[FR Doc. E9-7872 Filed 4-9-09; 8:45 am]

BILLING CODE 4154-07-P